DEPARTMENT OF LABOR

Employment and Training Administration

[TA-W-72,231]

Lonza, Inc., Riverside Plant, Lonza Exclusive Synthesis Section, Custom Manufacturing Division, Including On-Site Leased Workers From Lab Support, Aerotek, Job Exchange, and Synerfac, Conshohocken, PA; Notice of Revised Determination on Reconsideration

On December 23, 2009, the Department issued an Affirmative Determination Regarding Application for Reconsideration applicable to workers and former workers of the subject firm. The notice of affirmative determination was published in the Federal Register on January 6, 2010 (75 FR 878).

The initial investigation, initiated on September 8, 2009, resulted in a negative determination, issued on November 5, 2009, that was based on the finding that imports did not contribute importantly to worker separations at the subject firm and no shift in production to a foreign country occurred. The notice of negative determination was published in the Federal Register on January 25, 2010 (75 FR 3935).

To support the request for reconsideration, the petitioner supplied additional information to supplement that which was gathered during the initial investigation.

During the reconsideration investigation, the Department carefully reviewed new information provided by the petitioner and contacted the company official for additional information and clarification of previously-submitted information.

The reconsideration investigation revealed that the subject firm is shifting production of articles like or directly competitive with cGMP intermediates and Active Pharmaceutical Ingredients from the subject facility to a foreign country and that this shift on production contributed importantly to worker separations during the relevant period.

Conclusion

After careful review of the additional facts obtained on reconsideration, I determine that workers of Lonza, Inc., Riverside Plant, Lonza Exclusive Synthesis Section, Custom Manufacturing Division, including on-site leased workers of Lab Support, Aerotek, Job Exchange, and Synerfac, Conshohocken, Pennsylvania, who are engaged in employment related to the production of cGMP intermediates and Active Pharmaceutical Ingredients, meet the worker group certification criteria under Section 222(a) of the Act, 19 U.S.C. 2272(a). In accordance with Section 223 of the Act, 19 U.S.C. 2273, I make the following certification:

All workers of Lonza, Inc., Riverside Plant, Lonza Exclusive Synthesis Section, Custom Manufacturing Division, including on-site leased workers of Lab Support, Aerotek, Job Exchange, and Synerfac, Conshohocken, Pennsylvania, who are engaged in employment related to the production of cGMP intermediates and Active Pharmaceutical Ingredients, who became totally or partially separated from employment on or after September 2, 2008, through two years from the date of this certification, and all workers in the group threatened with total or partial separation from employment on date of certification through two years from the date of certification, are eligible to apply for adjustment assistance under Chapter 2 of Title II of the Trade Act of 1974, as amended.

Signed in Washington, DC, this 2nd day of February, 2010.
Del Min Amy Chen,
Certifying Officer, Division of Trade Adjustment Assistance.

[FR Doc. 2010-4249 Filed 3-1-10; 8:45 am]

BILLING CODE 4510-FN-P